DEPARTMENT OF DEFENSE

Office of the Secretary

32 CFR Part 179

Munitions Response Site Prioritization Protocol

AGENCY: Department of Defense.

ACTION: Proposed rule; correction.

SUMMARY: This document corrects the proposed rule published in the Federal Register on Friday, August 22, 2003 to correct typos and a Web address.

FOR FURTHER INFORMATION CONTACT: If there are specific questions, please contact Ms. Patricia Ferrebee, Office of the Deputy Under Secretary of Defense (Installations & Environment) (ODUSD(I&E)), 703-695-6107. This proposed rule along with relevant background information is available on the World Wide Web at the Defense Environmental Network & Information eXchange Web site, https://www.denix.osd.mil/MMRP.

Correction

In the proposed rule, on page 50900 in the issue of August 22, 2003 (68 FR 50900), make the following correction in the Addresses section of the preamble. On page 50900 in the first column, correct the Web address in the secord sentence of the ADDRESSES seciton to read: https://www.denix.osd.mil/MMRP.

In the proposed rule, on page 50926 in the issue of August 22, 2003, make the following correction in section XII.F. of the preamble. On page 50926 in the first column, correct the Web address in last sentence of section XII.F. to read: https://www.denix.osd.mil/MMRP.

§ 179.3 [Corrected]

In the proposed rule, on page 50930 in the issue of August 22, 2003, make the following correction in § 179.3. On page 50930 in the first column, correct the term Chemical Warfare Material in § 179.3 to read: Chemical Warfare Materiel.

Dated: September 2, 2003.
Patricia L. Toppings,
Alternate OSD Federal Register Liaison Officer, Department of Defense.

[FR Doc. 03-23136 Filed 9-10-03; 8:45 am]

BILLING CODE 5001-08-M